SECURITIES AND EXCHANGE COMMISSION

Sunshine Act Meeting

FEDERAL REGISTER CITATION OF PREVIOUS ANNOUNCEMENT: [To be Published]

STATUS: Closed Meeting.

PLACE: 100 F Street NE., Washington, DC.

DATE AND TIME OF PREVIOUSLY ANNOUNCED MEETING: Tuesday, September 17, 2013 at 4:00 p.m.

CHANGE IN THE MEETING: Cancellation of Meeting.

The Closed Meeting scheduled for Tuesday, September 17, 2013 at 4:00 p.m. was cancelled.

For further information please contact the Office of the Secretary at (202) 551-5400.

Dated: September 17, 2013.
Elizabeth M. Murphy,
Secretary.

[FR Doc. 2013-23013 Filed 9-18-13; 11:15 am]

BILLING CODE 8011-01-P